DEPARTMENT OF THE INTERIOR

National Park Service

Cedar Creek and Belle Grove National Historical Park Advisory Commission

AGENCY: National Park Service, Interior.

ACTION: Notice of meetings.

SUMMARY: Notice is hereby given in accordance with the Federal Advisory Committee Act that meetings of the Cedar Creek and Belle Grove National Historical Park Advisory Commission will be held to discuss the development of the Park's general management plan.

Dates and Locations: September 21, 2006 at the Warren County Government Center, 220 N. Commerce Ave., Front Royal VA; November 16, 2006 at the Strasburg Town Hall Council Chambers, 174 East King St., Strasburg, VA; January 18, 2007 at the Middletown Town Hall Council Chambers, 7875 Church St., Middletown, VA; March 15, 2007, at the Warren County Government Center; May 17, 2007 at the Strasburg Town Hall; and July 19, 2007 at the Middletown Town Hall.

All meetings will convene at 9 a.m. and are open to the public.

FOR FURTHER INFORMATION CONTACT: Diann Jacox, Superintendent, Cedar Creek and Belle Grove National Historical Park, (540) 868-9176.

SUPPLEMENTARY INFORMATION: Topics to be discussed at the meetings include: General management plan scoping issues, management alternatives, planning process and schedule, park boundaries, land protection planning, environmental impact analysis, election of a commission chair, and commission sub-committees.

Dated: July 17, 2006.
Christopher J. Stubbs,
Acting Superintendent, Cedar Creek and Belle Grove National Historical Park.

[FR Doc. E6-12020 Filed 7-26-06; 8:45 am]

BILLING CODE 4310-70-P